DEPARTMENT OF TRANSPORTATION

Office of the Secretary

Transportation Equity Act Model (TEAM) Announcement of Request for Proposals

AGENCY: Office of the Secretary, (DOT).

ACTION: Notice of request for proposals.

SUMMARY: The Department of Transportation established the Office of Small and Disadvantaged Business Utilization (OSDBU) in accordance with Public Law 95-507, an amendment to the Small Business Act and the Small Business Investment Act of 1958. This office is responsible for implementing and monitoring DOT's goals for small, women-owned and disadvantaged businesses. DOT's Small and Disadvantaged Business Program is designed to ensure that small businesses have an equitable opportunity to participate in the DOT's procurement programs, and that they receive a fair and equitable share of the resulting contract awards.

OSDBU establishes a local presence by entering into Cooperative Agreements with Chambers of Commerce, Trade Associations, Business Organizations and For-Profit Entities to increase awareness of DOT's procurement opportunities and financial assistance programs for small, minority, women-owned and disadvantaged business enterprises (DBEs). This request solicits competitive proposals from organizations and entities classified above for participation under OSDBU's Transportation Equity Act Model (TEAM) program. OSDBU will enter into Cooperative Agreements with these organizations and entities to provide liaison services between the DOT, its grantees, recipients, contractors, subcontractors, and minority, women-owned, small and disadvantaged business enterprises. This Request for Proposal contains information concerning: (1) The principal objectives of the competition, eligible applicants, activities and factors for an award; (2) the application process, including how to apply and the criteria used for selection; and (3) a checklist of application submission requirements.

DATES: Proposals must be received at U.S. Department of Transportation, Office of Small and Disadvantaged Business Utilization, 400 7th Street, SW., Room 9414, Washington, DC 20590, by March 24, 2003, 4 p.m., eastern standard time. Proposals received after the deadline will be considered non-responsive and will not be reviewed. Due to security concerns, proposals should be submitted via overnight courier.

FOR FURTHER INFORMATION CONTACT: Mr. Arthur D. Jackson, Office of Small and Disadvantaged Business Utilization, U.S. Department of Transportation, 400 7th Street, SW., Room 9414, Washington, DC 20590, Tel. 202-366-2852 or 800-532-1169, ext 6-2852.

SUPPLEMENTARY INFORMATION: Send proposals to Arthur Jackson, Office of Small and Disadvantaged Business Utilization, U.S. Department of Transportation, 400 7th Street, SW., Room 9414, Washington, DC 20590.

Dated: February 26, 2003.
Sean M. Moss,
Director, Office of Small and Disadvantaged Business Utilization.

Table of Contents

1. Introduction

1.1 Background

1.2 Program Description and Goals

1.3 Description of Competition

1.4 Duration of Agreements

1.5 Authority

1.6 Eligibility Requirements

2. Program Requirements

2.1 Recipient Responsibilities

2.2 Work Requirements

2.3 Office of Small and Disadvantaged Business Utilization Responsibilities

3. Submission of Proposals

3.1 Content and Format for Proposals

3.2 Address, Number of Copies, Deadline for Submission

4. Selection Criteria

Application Form for Proposals—Appendix A

Attachments

1. Introduction

1.1 Background

The United States Department of Transportation (DOT) established the Office of Small and Disadvantaged Business Utilization (OSDBU) in accordance with Public Law 95-507, an amendment to the Small Business Act and the Small Business Investment Act of 1958. The OSDBU administers the Department's Small and Disadvantaged Business Enterprise (DBE) Program which is designed to ensure that small, women-owned and disadvantaged businesses have an equitable opportunity to participate in DOT's procurement and Federal financial assistance programs and that they receive a fair share of the resulting contract awards. Because DOT's policy is to encourage and increase the participation of small, women-owned and disadvantaged businesses in the contracts and programs that it funds during FY 2002, awards to small businesses totaled $2.5 billion in DOT's direct procurement.

The mission of OSDBU is to promote customer satisfaction through successful partnerships that result in an inclusive and effective small business procurement process. To accomplish this mission, OSDBU has organized its responsibilities, programs and activities under four lines of business: Advocacy, Outreach, Financial Services, and Organizational Management. DOT/OSDBU has a strong commitment to the small business community and offers advocacy, outreach and financial programs to small businesses.

The OSDBU develops Department-wide policy and administers a number of programs and activities to implement the OSDBU's Congressional mandate expanding the level of participation of small, disadvantaged businesses in the Federal financial assistance and direct contracting programs of all modal administrations of DOT and DOT-assisted state and local transportation agencies. The OSDBU is responsible for the development and implementation of an effective program of activities directed at ensuring small business participation in the Department's direct procurement and Federal financial assistance activities. The OSDBU monitors all DOT procurement activities that involve the participation of small, minority, women-owned and disadvantaged businesses, including the goal settings and procurement practices of DOT financial assistance recipients, namely, state and local transportation agencies. The OSDBU also serves an important role in assisting firms in their marketing of the Department and all of its operating administrations. The OSDBU is responsible for developing and administering programs to encourage, stimulate, promote and assist small businesses to obtain and manage transportation-related contracts, subcontracts and projects. The OSDBU administers the Short Term Lending Program (STLP) and the Bonding Assistance Program, two financial assistance efforts that provide assistance in obtaining short-term working capital and surety bonding on transportation-related projects. Under the STLP, guarantees of lines of credit up to $500,000 are available at prime plus 1% to finance accounts receivable for transportation-related contracts. The Bonding Assistance Program enables DBEs to apply for bid, performance and payment bonds on contracts up to $1,000,000. The fee for performance and payment bonds is 2.5%.

1.2 Program Description and Goals

An area where the OSDBU has focused considerable efforts has been that of increasing small, minority, women-owned and disadvantaged businesses access to DOT financial assistance programs and contracting opportunities through the Transportation Equity Act Model (TEAM) program. This initiative utilizes Cooperative Agreements to provide liaison services between DOT, its grantees, recipients, contractors, subcontractors and small businesses. The TEAM includes activities such as information dissemination, outreach services, conference and seminar participation and referrals to technical assistance agencies (i.e., Minority Business Development Centers (MBDCs), Small Business Development Centers (SBDCs), Procurement Technical Assistance Contractors (PTACs) and State DOT highway supportive services contractors) which offer management and technical assistance in financial assistance, marketing and other business areas. In addition, the TEAM provides one-on-one business counseling to small firms to increase their participation in mega projects emanating from the DOT, its grantees/recipients and to assist small businesses to participate in other agency initiatives such as Aviation, Security, and Surface Transportation Safety. Information dissemination and outreach include the distribution of the following DOT marketing materials: DOT Bonding Assistance Program information; DOT Short-Term Lending Program information; Procurement Forecasts; DOT Small Business Subcontracting Opportunities Directory; and Contracting with the United States Department of Transportation Booklets. A compilation of these materials is available in the DOT's Marketing Information Package, a comprehensive document which serves as a resource and reference tool.

The TEAM concept was established by the OSDBU in May 2000 in response to the continuing need to outreach to the small and disadvantaged business communities and increases their participation in DOT contracting and financial assistance programs. To address this need, the TEAM seeks (1) to increase the number of small and disadvantaged businesses that enter into transportation-related contracts; (2) to increase the participation of small, women-owned and disadvantaged businesses in mega projects funded largely from DOT Federal assistance; and (3) to increase the number of small, women-owned and disadvantaged businesses that receive DOT STLP lines of credit and bonding assistance.

The TEAM will:

(1) Work with prime contractors, Federal, State and local agencies, and DOT grantees and recipients to create opportunities for small, women-owned and disadvantaged businesses.

(2) Establish a communications link between DOT, its grantees, recipients, contractors, subcontractors and the small, disadvantaged business community. Increase awareness of contracting opportunities with mega projects by developing an aggressive outreach initiative to identify and refer qualified candidates to service providers and contracting agencies.

(3) Develop structured, consultative relationships with the private sector financial community and governmental agencies that can create a public/private partnership to provide specialized assistance to small, women-owned and disadvantaged businesses.

(4) Disseminate DOT marketing materials and relevant information at design/build meetings, selected conferences/seminars, and other transportation-related events through the use of quarterly newsletter and mailings from the TEAM's office.

(5) Develop and/or strengthen linkages with State DOTs, local Transit Agencies, Historically Black Colleges and Universities, Hispanic Serving Institutions, Associations of Minority and Women Contractors and Prime Contractors, to encourage small business participation in mega projects and other transportation-related opportunities.

(6) Stimulate referrals of firms to obtain technical assistance from Federal, state and local agencies such as MBDCs, SBDCs and State DOT highway supportive services contractors for management and other business-related assistance, including approvals of surety bonds and working capital.

(7) Establish business operations and procedures that are “results oriented”, and implement the principles set forth in the Government Performance and Results Act (GPRA) of 1993. This Act ensures that programs and budget decisions are linked with program performance. GPRA establishes a framework for results-oriented management and promotes a new way of doing business, a common sense approach that focuses on getting results through performance-based goals and accountability. Each applicant will put forth every effort in complying with the GPRA and report on achievements of performance.

(8) Establish outreach and information dissemination activities to encourage partnerships with Federal, State and local governments, private sector organizations and businesses, including small and disadvantaged businesses, concerning the availability of contracts and other procurement opportunities.

(9) Focus efforts on existing transportation programs, such as Educational Institutions that use innovative strategies to assist individuals and companies to make the transition from entry-level businesses to successful entrepreneurs in the field of transportation.

(10) Focus on matching businesses with transportation-related procurement opportunities in mega projects where small, disadvantaged businesses can participate in DOT-assisted contracts. Techniques such as disseminating current information on procurement and contract opportunities; transmitting synopses of contract information by e-mail and/or electronic data transfers; and setting up one-to-one contacts between prime contractors and small businesses that will create a “match” between the two parties.

(11) Employ a multidimensional approach to business. The applicants must have the capacity and organizational structure to effectively access and provide supportive services to the broad range of small business and disadvantaged clients within their geographical areas. The applicants must have the background to provide management and technical help to small and disadvantaged firms. Applicants must have demonstrated knowledge of the contracting process in their geographical area to ably assist small businesses in contract acquisition.

1.3 Description of Competition

The purpose of this RFP is to solicit proposals from applicants, such as Chambers of Commerce, Trade Associations, Business Organizations and For-Profit Entities, to participate in the Transportation Equity Act Model (TEAM) program. The TEAM will enable the OSDBU to establish a local presence by assisting small businesses and DBEs in securing information on DOT procurement opportunities and DOT's Short-Term Lending and Bonding Assistance Programs in order to increase the number of small businesses that enter into transportation-related contracts. As the program requirements and selection criteria indicate, the OSDBU also intends that the TEAM is multidimensional; that is, the selected organizations and entities must have the capacity to effectively access contracts and other procurements for small businesses within their target areas. In addition, the TEAM must be able to coordinate and establish effective networks with DOT grant recipients and technical assistance agencies to maximize resources and avoid duplication of effort.

It is OSDBU's intent to fund one agreement in each of the selected locations. However, OSDBU reserves the option to make multiple awards, if warranted.

The geographical locations and Target Projects for each TEAM are as follows:

Eastern TEAM: New York, New York

Western TEAM: Oakland/San Francisco, California

Northern TEAM: Chicago, Illinois

Southern TEAM: Orlando, Florida

Midwest TEAM: Milwaukee, Wisconsin

Southeast TEAM: Atlanta, Georgia

Southwest TEAM: Alburquerque, New Mexico

Northwest TEAM: Seattle, Washington

Mid-Atlantic TEAM: DC/MD/VA

1.4 Duration of Agreements

Cooperative agreements will be awarded for a period of 12 months.

1.5 Authority

DOT is authorized under 49 U.S.C. 322 (Pub. L. 97-449), to develop by Cooperative Agreements, support mechanisms including liaison and assistance programs, that will increase the opportunities of small, women-owned and disadvantaged businesses to access transportation-related contracts.

1.6 Eligibility Requirements

• An established Chamber of Commerce, Trade Association, Business Organization or For-Profit Entity which has the documented experience and capacity necessary to successfully operate and administer a coordinated TEAM effort within a specific location.

• Documented and continuous experience prior to the date of application in areas such as advocacy for small businesses, management and marketing expertise, outreach referrals to technical assistance agencies, and government contracting within the jurisdiction of the TEAM service area in which proposed services will be provided; and

• Physically headquartered within the TEAM service area.

2. Program Requirements

In conducting the activities to achieve the goals of the TEAM, the recipient will be responsible for implementing the activities under 2.1 and 2.2 below. The OSDBU will be responsible for conducting activities under 2.3.

2.1 Recipient Responsibilities

(1) Develop structured, consultative relationships with key constituent groups within the TEAM area to help build and reinforce coordination and credibility. Such relationships will ensure that DOT non-minority and minority prime contractors, as well as organizations and associations, facilitate awareness and utilization of the TEAM program's services.

(2) Conduct outreach to identify and refer qualified candidates to service providers and contracting entities to ensure that small, minority, women-owned and disadvantaged businesses are well prepared for access to contracting opportunities.

(3) Disseminate information as a component of outreach by distributing DOT documents and materials, such as, DOT Bonding Assistance Program Fact Sheets and applications from bond agents; DOT Short-Term Lending Program Fact Sheets and applications; Procurement Forecasts; and Contracting with the United States Department of Transportation Booklets. A compilation of these materials is available in the DOT's Marketing Information Package, a comprehensive guide that serves as a resource and reference tool.

(4) Provide referrals to technical assistance agencies and educational institutions to receive assistance in areas such as, the completion of bonding and lending applications, bid and cost estimating, and management assistance. Technical assistance agencies include Minority Business Development Centers (MBDCs), Small Business Development Centers (SBDCs) and State DOT highway supportive services contractors, Minority Educational Institutions, and Procurement Technical Assistance Centers.

(5) Complete a follow-up form for each referral made to the technical assistance agencies, educational institutions and financial institutions that documents the referrals, lists other services provided subsequent to the referral, identifies the outcome measurements that were achieved based upon the action taken. This information shall be reported in writing to OSDBU on a monthly basis and will identify the technical assistance agency and contact person.

(6) Develop and maintain a database of transportation-related firms that have the capability to bid on mega projects and other transportation-related opportunities and have the capacity to secure bonds and loans in support of contracts and subcontracts. The targeted database should consist of firms that will receive a comprehensive array of services, including counseling, technical assistance, bonding and lending approvals and regular follow-up services under the TEAM. Referrals of DBEs will be made to prime contractors and mega projects subsequent to matching companies by categories such as NAICS Codes, HUB Zone participants, location of firms, type of certifications held, and bonding and lending capacity.

(7) Provide access to bonding and lending for certified firms to obtain bid, performance and payment bonds on transportation-related contracts up to $1,000,000 and guaranteed lines of credit up to $500,000 for accounts receivable financing. Also, firms certified by the Small Business Administration as 8(a), Hubzone, Small Disadvantaged Businesses (SDBs) and Service Disabled Veterans will qualify for the DOT Bonding and Lending Programs. DOT's bond agents and bankers shall work with the Project Director and OSDBU to present “how-to-workshops” on preparation and completion of bond and loan packages. The DOT partners will deliver the workshop presentations only when it is feasible for them to participate, or when a training session is scheduled in their locations. The OSDBU will participate in selective workshops at times when it is not feasible for the DOT bond agents or the DOT banks to be in attendance.

(8) Develop procedures for submitting bond and loan applications to DOT's bond agents and banks, and develop procedures for securing necessary training from sources such as, educational institutions, technical assistance agencies, private entities available to work with the TEAM.

(9) Provide access to contracts for businesses seeking to participate on mega or special projects by establishing a working knowledge of the projects and become familiar with the needs of prime contractors and other obligees. Electronic Commerce, Intelligent Transportation System (ITS), and Special Research & Demonstration Projects are additional areas where contract opportunities are available to small businesses.

(10) Participate in conferences/seminars on behalf of OSDBU by attending specific sessions that are transportation-related.

(11) Establish a toll free telephone line that is available to small businesses interested in securing information regarding the DOT in general and OSDBU's TEAM in particular. Callers should receive directions on how they can participate in DOT programs that will enhance their efforts in securing DOT contracts, especially mega projects.

(12) Provide special assistance to small firms by utilizing the services of technical experts in various disciplines to increase the knowledge base of DBE firms.

(13) Furnish all labor, facilities and equipment to perform the services described in this announcement.

2.2 Work Requirements

Each TEAM must perform work in the following functional areas:

• Advocacy

• Outreach

• Financial Services

• Referral to Technical Assistance Providers

• Follow Up

• Success Stories

• Teleconferencing

(A) Advocacy

The applicant shall serve in an advocacy role to small, women-owned and disadvantaged businesses to encourage their participation in DOT financial programs and DOT assisted contracts and procurement opportunities. The TEAM shall coordinate its efforts with Federal, State and local agencies and the private sector, to promote the development and implementation of effective programs that assist small, women-owned and disadvantaged businesses.

The TEAM shall counsel small, women-owned and disadvantaged businesses on the use of the Internet, with priority given to maximizing use of the DOT website at http://www.dot.gov and the OSDBU website at http://osdbuweb.dot.gov and encourage them to use this medium for marketing the U.S. DOT, the mega project(s) and other Federal, State and local agencies for procurement opportunities.

The TEAM shall establish and implement business operations and procedures that are results oriented, and implement the principles set forth in the Government Performance and Results Act (GPRA) of 1993. The TEAM will keep documentation as to achievements attained for reporting under the GPRA within its geographical area.

(B) Outreach

The TEAM shall provide assistance to small, women-owned and DBE firms for registering their businesses with Federal, State and local databases to market their goods and services to governmental agencies.

(1) Conferences. The TEAM shall participate in conferences/seminars as a representative of the DOT OSDBU. The meetings must be transportation related in scope and designed to assist small, disadvantaged businesses to obtain contract opportunities and access to bonding and lending. A written request must be received by OSDBU at least five days in advance of the conference and written approval shall be received from OSDBU prior to attendance. Written reports will be transmitted to OSDBU within five workdays after the conference. An outline of the report format will be provided by OSDBU.

The TEAM will work in conjunction with OSDBU's conference coordinator and serve as the local contact for logistical arrangements with hotel and/or other facilities where Transportation Marketplace Conferences are to be held. The TEAM will perform under the leadership of OSDBU's conference coordinator to ensure that local grantees/recipients and other Federal, State and local agencies are included in the planning and coordination of Transportation Marketplace Conferences.

(2) Database Development. The TEAM must assist firms to register with primary databases which are accessible from the OSDBU website, namely;

• Pro-Net—is an electronic gateway of procurement information, for and about small businesses, provided by the U.S. Small Business Administration (SBA). It is a search engine for contracting officers, a marketing tool for small firms and a link to procurement opportunities and important information. It is designed to be a virtual one-stop procurement shop.

• Fed Biz Ops—is a web-based system for posting solicitations and other procurement-related documents on the Internet. All DOT procurement organizations currently posting requirements to the Internet are required to use EPS. Contract specialists post synopses and other procurement documents, such as solicitations, amendments, and award notifications to a common index, which allows firms to search databases concerning information from many of the Federal agencies.

• News by E-Mail—is an automatic service afforded firms for registering on the OSDBU Web Site in order to subscribe and receive DBE Announcements, The Transportation Link Newsletter, OSDBU News and Outreach/Conference Announcements.

The agency shall conduct an aggressive outreach effort that will provide a significant increase in the number of small and disadvantaged businesses registered in the TEAM's database in order to participate more effectively in other DOT procurement in general and their special projects (identified under “Target Projects”) particular. Outreach to DBEs, HUBZone businesses, Service-Disabled Veterans, 8(a) firms, and Women-Owned businesses shall be conducted and representatives from these groups should be a significant part of the database. The TEAM shall conduct outreach and information dissemination regarding the OSDBU bonding and lending programs, and procurement opportunities, at specific events being held in the community, such as conferences, seminars, events that are transportation-related. Materials and documents such as, DOT Bonding Assistance Program Fact Sheets and Application; DOT Short Term Lending Program Fact Sheets and Applications; Procurement Forecasts; and Contracting with DOT Booklets are some of the literature that should be disseminated to DBEs.

(3) Toll Free Line. The TEAM shall maintain a Toll Free telephone line to be made available to small, women-owned and disadvantaged businesses interested in securing information regarding the DOT. Reference should be made to the U.S. DOT TEAM when answering the line. Callers should receive directions on how they can participate in DOT programs, especially those related to mega projects, procurement and information on the application process for the Bonding and Short Term Lending Programs. In addition, information should be elicited from callers regarding their e-mail addresses. Inquiries should be made of callers as to their use, or lack of use of the DOT, OSDBU and TEAM web sites. TEAM staff must have sufficient knowledge of how to access and navigate through the web sites in order to provide guidance and assistance to the small businesses as good customer relations.

(C) Financial Services

The TEAM will provide assistance to small and disadvantaged businesses, including women-owned in order to participate in OSDBU's financial assistance programs. Also, firms certified by the U.S. Small Business Administration's 8(a) program, Small Disadvantaged Businesses (SDBs), HubZone Empowerment Contracting Program and Service-Disabled Veterans are eligible to participate in the following financial assistance services.

(1) Bonding Assistance. The TEAM will provide firms access to bonding information on the program to obtain bid, performance and payment bonds for transportation-related contracts up to $1,000,000.

(a) Deliver at least five bonding workshops on package preparation and completion of applications. The DOT bond agents will participate in the workshop presentations only when it is feasible for them to attend, or when a training session is scheduled in their locations.

(b) Provide a checklist of items and documents that each participant must bring to the work sessions and which must be approved by the TEAM prior to attendance.

(c) Produce at least 10 complete bond packages from 10 separate firms for approval by the DOT bond agent.

(d) Secure training and/or other assistance from technical assistance providers, educational institutions, and/or the private sector to ensure that firms will submit quality applications to the bond agents for approval.

The proposed plan of action of how the above will be accomplished must receive approval from OSDBU's COTR prior to implementation.

(2) Short-Term Lending.The TEAM will provide firms access to lending information on the program to obtain guaranteed lines of credit up to $500,000 for accounts receivable financing.

(a) Deliver at least five workshops on package preparation and completion of applications. The DOT banks will participate in the workshop presentations only when it is feasible for them to attend, or when a training session is scheduled in their locations.

(b) Provide a checklist of loan documentation required by the participants that should accompany firms to each work session. The TEAM will coordinate the checklist with the Lead Participating Bank and receive their input before proceeding with the work sessions.

(c) Produce at least 10 complete loan packages from 10 separate firms in the for approval by the DOT banks.

(d) Secure training and/or other assistance from technical assistance providers, educational institutions, and/or the private sector, to ensure that firms submit quality applications to the banks for approval.

The proposed plan of action of how the above will be accomplished must receive approval from OSDBU's COTR prior to implementation.

(D) Referral to Technical Assistance Agencies

The TEAM shall refer small and disadvantaged firms seeking contracts with mega projects to technical assistance providers from Federal, State and local agencies such as Minority Business Development Centers (MBDCs), Small Business Development Centers (SBDCs), and State DOT highway supportive services contractors, Minority Education Institutions, Procurement Technical Assistance Centers (PTACs), and private sources. Assistance shall include management and other business related information, including completion and submission of DOT Bonding Assistance and Short Term Lending Applications in order to qualify for financial help. Documentation of each referral must be reported on a referral form indicating to whom the referral was made, the organization and name of the contact person, and the reason(s) for the referral. The technical assistance agency must verify (counter sign the form) to document receipt of the referral, and return it to the TEAM.

(E) Follow Up

The TEAM will track each firm's progress and report on any assistance provided by the TEAM, such as technical assistance referrals to service providers, referrals to financial institutions, counseling, and referrals to OSDBU's website. Also, report the number and type of contract awards received by clients as a result of TEAM's involvement, including the kind of assistance provided to the small business. Reports must be submitted to OSDBU using the monthly Reporting Form (to be provided). The numerical data on the form must be accompanied by narrative information regarding each activity and should highlight the problems, concerns and successes encountered by the small business person. Follow-up must be conducted on all referrals made by the TEAM.

(F) Success Stories

The TEAM must develop a minimum of three success stories each quarter that highlights the accomplishments of DBEs who participate in the assigned mega project(s). The stories shall be submitted to OSDBU for review and approval by the Director, prior to publication in the TEAM's newsletter and/or on OSDBU's Website and the Transportation Link Newsletter.

(G) Teleconferencing

Each TEAM will be responsible for teleconferencing calls with other team members and will document best practices that are derived from the interaction with peers. Each TEAM will be responsible for one teleconferencing call per month on a rotating basis during the course of this agreement. The purpose of the teleconference calls is to assist the TEAMS in working together as a cohesive unit, in exchanging ideas, in discussing on-going activities in respective regions and in sharing actions that are successful in one area, which may be replicated in another location. The TEAMS responsible for hosting the teleconferences are as follows:

1st month—Eastern TEAM

2nd month—Western TEAM

3rd month—Northern TEAM

4th month—Southern TEAM

5th month—Midwest TEAM

6th month—Southeast TEAM

7th month—Southwest TEAM

8th month—Northwest TEAM

9th—month Mid-Atlantic TEAM

At the completion of the 9th month the schedule will rotate back to the first TEAM and the process will continue throughout the period of the Cooperative Agreements. The TEAM that is responsible for placing the call will develop an agenda and transmit it by e-mail to each Project Director prior to teleconference. A written summary of the discussion will be submitted to OSDBU by the host TEAM and the report must include areas such as, discussion highlights, project accomplishments, problems or concerns, and recommendations for improvement.

2.3 Office of Small and Disadvantaged Business Utilization (OSDBU) Responsibilities

The OSDBU will perform the following roles as its contribution to the attainment of the TEAM objectives:

1. Provide consultation and technical assistance in planning, implementing and evaluating activities under this announcement.

2. Provide orientation and training, as appropriate, to applicants awarded funding for participation as TEAMs.

3. Systematically monitor the performance of successful applicants' activities and program compliance.

4. Assist successful applicants in collaborating and developing or strengthening linkages with State DOTs, technical assistance agencies and DOT grantees and recipients within geographical areas served.

5. Facilitate the exchange and transfer of successful TEAM activities and program information among other TEAMs.

3. Submission of Proposals

3.1 Content and Format for Proposals

Each proposal submitted to DOT must be in the format and must contain the information set forth in the application form attached as Appendix A to this announcement.

3.2 Address; Number of Copies; Deadlines for Submission

Any applicant (as defined in section 1.6 of this announcement) will submit only one proposal, not to exceed 35 single-sided pages, for consideration by DOT. Applications should be double spaced, and printed in a font size not smaller than 12 points. One unbound copy of the proposal with original signatures suitable for reproduction, and four bound copies, should be submitted. All pages should be numbered. All documentation, attachments, or other information pertinent to the application must be included in a single submission. Proposals should be submitted to: Arthur D. Jackson, Office of Small and Disadvantaged Business Utilization (S-40) Department of Transportation, 400 7th Street, SW., (Rm. 9414), Washington, DC 20590.

Proposals must be received by DOT/OSDBU no later than March 24, 2003, 4 p.m., e.s.t. Due to security concerns, proposals should be submitted via overnight courier.

4. Selection Criteria

DOT will use the following criteria to rate proposals received in response to this announcement for the specific location of the applicant. The following categories will constitute DOT's selection criteria:

• Approach

• Linkages

• Organizational Capability

• Staff Capabilities and Experience

• Cost

A. Approach

The applicant must describe the activities proposed to be implemented under the cooperative agreement and how the work will be accomplished. DOT will consider the extent to which the proposed objectives are specific, measurable, time-phased, consistent with TEAM goals and the proposed activities are consistent with the applicant's overall mission. DOT will give priority consideration to applicants that demonstrate innovation and creativity of approach in increasing the ability of small, minority, women-owned, and disadvantaged businesses (DBEs) to access information on DOT contracting opportunities and financial assistance programs. DOT will also consider the quality of the applicant's plan for conducting program activities and the likelihood that the proposed methods will be successful in achieving proposed objectives.

B. Linkages

DOT will consider innovative aspects of the applicant's approach which build upon the applicant's strength(s) and facilitate and encourage linkages to existing resources available within the area. The applicant should describe support and intended collaboration on TEAM activities from DOT grantees, prime contractors, subcontractors, State DOTs, State highway supportive services contractors, SBDCs, MBDCs and colleges and universities, including Minority Educational Institutions (Historically Black Colleges and Universities (HBCUs), Hispanic Serving Institutions (HSIs) and Tribal-Affiliated Colleges and Universities (TACUs)). DOT will also rate the effectiveness of the applicant's strategy to provide outreach, networking and liaison activities to the service area. In rating this factor, DOT will consider the extent to which the applicant demonstrates ability to effectively access and network supportive services to the broad and diverse range of small businesses within the applicant's service area. Emphasis will also be placed on the extent to which the applicant identifies a clear outreach strategy related to identified needs that can be successfully carried out within the period of this agreement and a plan for forming and involving an internal transportation advisory committee in the execution of that strategy.

C. Organizational Capability

The applicant must have outreach resources and relevant experience in carrying out the purposes of the TEAM program. In rating this factor, DOT will consider the extent to which the applicant has recent, relevant and successful experience in advocating for and addressing the needs of small businesses in general. The applicant must also describe technical and administrative resources it plans to use in achieving proposed objectives (i.e., computer facilities, voluntary staff time, space and financial resources).

D. Staff Capability and Experience

The applicant should provide a list of proposed personnel for the project with salaries, educational levels and previous experience delineated. The applicant's project team must be well-qualified and knowledgeable and demonstrate the ability to deal effectively with the broad range of small, disadvantaged businesses to be served. Resumes must be submitted for all proposed key personnel, outside consultants and subcontractors. Experience of key personnel in providing services similar in scope and nature to the proposed effort must be presented in detail. The Project Director will serve as the responsible individual for the project a minimum of 100 percent of his/her time. The resume of the proposed Project Director must be included in the applications submitted and his/her resume must reflect appropriate knowledge of the area and customer-service related experience.

DOT will consider the extent to which the applicant's proposed management plan (a) clearly delineates staff responsibilities and accountability for all work required and (b) presents a work plan with a clear and feasible schedule for conducting all project tasks.

E. Cost

The budget is the applicant's estimate of the total cost of establishing and administering its participation in the TEAM program for a 12 month period. The applicant's budget must be adequate to support the project and costs must be reasonable in relation to project objectives. Cost-sharing approaches, in-kind contributions (monetary and staff) are encouraged.

Appendix A—Application Form for Proposals for the Department of Transportation Transportation Equity Act Model (TEAM)

Proposals for the DOT Transportation Equity Act Model (TEAM) should contain all of the following information and should be submitted in the following format.

Applications should be double spaced and printed in a font size not smaller than 12 points. One unbound copy of the proposal with original signatures suitable for reproduction, and four bound copies, should be submitted. Applications will not exceed 35 single-sided pages. All pages should be numbered at the top of each page. All documentation, attachments, or other information pertinent to the application should be included in a single submission, forwarded directly to the address listed below. Proposals should be submitted to: Arthur D. Jackson, Office of Small and Disadvantaged Business Utilization (S-40), Department of Transportation, 400 7th Street, SW., Room 9414, Washington, DC 20590.

Proposals must be received by DOT/OSDBU no later than March 24, 2003, 4 p.m. e.s.t.

Applications submitted must contain the following 12 sections and be organized in the following order and cannot exceed 35 single-sided pages.

1. Table of Contents

• Identify all parts, sections and attachments of the application.

2. Application Summary

• Provide a summary overview of the following:

—The applicant's proposed TEAM, its related activities including key elements of the plan of action/methodology to achieve project objectives.

—The applicant's relevant organizational experience and capabilities.

3. Understanding of the Work

• Provide a narrative that contains specific project information as follows:

—The applicant will describe its understanding of the TEAM, program goals and the role of the applicant's proposed TEAM in advancing the applicant's goals.

—The applicant will describe specific outreach needs of transportation-related small businesses in the area to be served and how the TEAM will address the identified needs.

4. Approach/Methodology

• Describe the applicant's methodology or plan of action for conducting the project in terms of the tasks to be performed.

• Describe the specific services or activities to be performed and how these services/activities will be implemented.

• Describe innovative and/or creative approaches to be implemented through the TEAM program to increase the ability of small businesses to access information on DOT contracting opportunities and financial assistance programs.

5. Linkages

• Describe outreach activities and linkages to be implemented to ensure that small and disadvantaged businesses participate in TEAM activities.

• Describe or indicate evidence of linkages or collaborations developed or to be developed with State DOTs, DOT grantees, DOT prime contractors, other Chambers of Commerce and trade associations and technical assistance agencies including DOT/FHWA supportive services contractors, MBDCs and SBDCs and educational institutions including HBCUs, HSIs and TACUs.

6. Organizational Capabilities

• Describe recent, relevant and successful experience in advocating and addressing the needs of small and disadvantaged businesses.

• Describe relevant experience in working or collaborating with Chambers of Commerce and trade associations, DOT grantees, State DOTs, technical assistance agencies including DOT/FHWA supportive services contractors, MBDCs, SBDCs and educational institutions including HBCUs, HSIs.

• Describe internal resources available to use in successfully performing/completing the work.

7. Staff Capabilities

• Describe the qualifications and relevant experience, in relation to project requirements, of the key personnel to be used in the project.

8. Management Plan

• Describe how personnel are to be organized in the project and how they will be used to accomplish project objectives. Outline staff responsibilities, accountability and a schedule for conducting project tasks.

9. Budget Narrative

• Outline proposed budget/cost information in detail.

10. Assurances Signature Form

• Complete the attached form identified as Attachment 1.

11. Certification Signature Form

• Complete the attached form identified as Attachment 2.

12. Standard Form 424

• Request for Federal Assistance. Complete the attached Standard Form 424 identified as Attachment 3.

Please be sure that all forms have been signed by an authorized official who can legally represent the applicant.

Thank you for submitting an application to be a participant in the U.S. Department of Transportation's Transportation Equity Act Model (TEAM) Program.

Attachment 1

Assurances

All recipients of Federal funding are required to assure that the recipient:

• Has the legal authority to apply for Federal assistance, and the institutional, managerial, and financial capability (including funds sufficient to pay the non-Federal share of project costs) to ensure proper planning, management, and completion of the project described in this application.

• Will give the awarding agency, the Comptroller General of the United States, and if appropriate, the State, through any authorized representative, access to and the right to examine all records, books, papers, or documents related to the award; and will establish a proper accounting system in accordance with generally accepted accounting standards or agency directives.

• Will establish safeguards to prohibit employees from using their position for a purpose that constitutes or presents the appearance of personal or organizational conflict of interest, or personal gain.

• Will initiate and complete the work within the applicable time frame after receipt of approval of the awarding agency.

• Will comply with the Intergovernmental Personnel Act of 1970 (42 U.S.C. 4728-4763) relating to prescribed standards for merit systems for programs funded under one of the nineteen statutes or regulations specified in Appendix A of OPM's Standards for Merit System of Personnel Administration (5 CFR 900; subpart F).

• Will comply with all Federal statutes relating to nondiscrimination. These include but are not limited to: (a) Title VI of the Civil Rights Act of 1964 (Pub. L. 88-352) which prohibits discrimination on the basis of race, color, or national origin; (b) title IX of the Education Amendments of 1972, as amended (20 U.S.C. 1681-1683, and 1685-1686), which prohibits discrimination on the basis of sex; (c) section 504 of the Rehabilitation Act of 1973, as amended (29 U.S.C. 794), which prohibits discrimination on the basis of disability; (d) the Age Discrimination Act of 1975, as amended (42 U.S.C. 6101-6107), which prohibits discrimination on the basis of age; (e) the Drug Abuse Office and Treatment Act of 1972 (Pub. L. 92-255), as amended, relating to nondiscrimination on the basis of drug abuse; (f) the Comprehensive Alcohol Abuse and Alcoholism Prevention, Treatment and Rehabilitation Act of 1970 (Pub. L. 91-616), as amended, relating to nondiscrimination on the basis of alcohol abuse or alcoholism; (g) 523 and 527 of the Public Health Service Act of 1912 (42 U.S.C. 290dd-3 and 290ee-3), as amended, relating to confidentiality of alcohol and drug abuse patient records; (h) title VIII of the Civil Rights Act of 1968 (42 U.S.C. 3601 et seq.), as amended, relating to nondiscrimination in the sale, rental or financing of housing; (i) any other nondiscrimination provisions in the National and Community Service Act of 1990, as amended; and (j) the requirements of any other nondiscrimination statute(s) which may apply to the application.

• Will comply, or has already complied, with the requirements of titles II and III of the Uniform Relocation Assistance and Real Property Acquisition Policies Act of 1970 (Pub. L. 91-646) which provide for fair and equitable treatment of persons displaced or whose property is acquired as a result of Federally assisted programs. These requirements apply to all interests in real property acquired for project purposes regardless of Federal participation in purchases.

• Will comply with the provisions of the Hatch Act (5 U.S.C. 1501-1508 and 7324-7328), which limit the political activities of employees whose principal employment activities are funded in whole or in part with Federal funds.

• Will comply, as applicable, with the provisions of the David-Bacon Act (40 U.S.C. 276a and 276a-77), the Copeland Act (40 U.S.C. 276c and 28 U.S.C. 874), and the Contract Work Hours and Safety Standards Act (40 U.S.C. 327-333), regarding labor standards for Federally assisted constructions subagreements.

• Will comply, if applicable, with flood insurance purchase requirements of section 201(a) of the Flood Disaster Protection Act of 1973 (Pub. L. 93-234) which required the recipients in a special flood hazard area to participate in the program and to purchase flood insurance if the total cost of insurable construction and acquisition is $10,000 or more.

• Will comply with environmental standards which may be prescribed pursuant to the following (a) institution of environmental quality control measures under the National Environmental Policy Act of 1969 (Pub. L. 91-190) and Executive Order (EO) 11514; (b) notification of violating facilities pursuant to EO 11738; (c) protection of wetlands pursuant to EO 11990; (d) evaluation of flood hazards in flood plains in accordance with EO 11988; (e) assurance of project consistency with the approved state management program developed under the Coastal Zone Management Act of 1972 (16 U.S.C. 1451 et seq.); (f) conformity of Federal actions to State (Clean Air) Implementation Plans under section 176(c) of the Clean Air Act of 1955, as amended (42 U.S.C. 7401 et seq.); (g) protection of underground sources of drinking water under the Safe Drinking Water Act of 1974, as amended (Pub. L. 93-523); and (h) protection of endangered species under the Endangered Species Act of 1973, as amended (Pub. L. 93-205).

• Will comply with the Wild and Scenic Rivers Act of 1968 (16 U.S.C. 1271 et seq.) Related to protecting components or potential components of the national wild and scenic rivers system.

• Will assist the awarding agency in assuring compliance with section 106 of the National Historic Preservation Act of 1966, as amended (16 U.S.C. 470), EO 11593 (identification and protection of historic properties), and the Archaeological and Historic Preservation Act of 1974 (16 U.S.C. 469a-1 et seq.).

• Will comply with Pub. L. 93-348 regarding the protection of human subjects involved in research, development, and related activities supported by this award of assistance.

• Will comply with the Laboratory Animal Welfare Act of 1966 (Pub. L. 89-544, as amended, 7 U.S.C. 2131 et seq.). Pertaining to the care, handling, and treatment of warm blooded animals held for research, teaching, or other activities supported by this award of assistance.

• Will comply with the Lead-Based Paint Poisoning Prevention Act (42 U.S.C. 4301 et seq.). Which prohibits the use of lead based paint in construction or rehabilitation of residence structures.

• Will cause to be performed the required financial and compliance audits in accordance with the Single Audit Act of 1984 or OMB Circular A-133. Audits of Institutions of Higher Learning and other Non-Profit Institutions.

• Will comply with all applicable requirements of all other Federal laws, executive orders, regulations, and policies governing this program.

• In addition, all recipients of Corporation assistance under this application are required to assure that the recipient:

• Will keep such records and provide such information to the Corporation with respect to the program as may be required for fiscal audits and program evaluation.

• Will not use the assistance to replace state and local funding streams that had been used to support programs of the type eligible to receive Corporation support. For any given program, this condition will be satisfied if the aggregate non-Federal expenditure for that program in the fiscal year that support is to be provided is not less than the previous fiscal year.

• Will use the assistance only for a program that does not duplicate, and is in addition to, an activity otherwise available in the locality of the program.

• Will comply with the Notice, Hearing, and Grievance Procedures found in section 176 of the Act.

• Will comply with the nondisplacement rules found in section 177(b) of the Act. Specifically, an employer shall not displace an employee or position, including partial displacement such as reduction hours, wages, or employment benefits, as a result of the employer using an AmeriCorps participant; a service opportunity shall not be created that will infringe on the promotional opportunity of an employed individual; an AmeriCorps participants shall not perform any services or duties or engage in activities that (1) would otherwise be performed by an employee as part of the employee's assigned duties, (2) will supplant the hiring of employed workers, (3) are services or duties with respect to which an individual has recall rights pursuant to a collective bargaining; agreement or applicable personnel procedures; or (4) have been performed by or were assigned to any presently employed worker, an employee who recently resigned or was discharged, an employee who is on leave an employee who is on strike or is being locked out, or an employee who is subject to a reduction in force or has recall rights subject to a collective bargaining agreement or applicable personnel procedure.

Assurances—Signature

By signing this assurances page, the applicant certifies that it will agree to perform all actions and support all intention stated in the attached Assurances.

Note: This form must be signed and included in the application.

Applicant Name

Project Name

Name and Title of Authorized Representative

Signature

Date

Attachment 2

Certifications

Before completing certification, please read Certification Instructions.

Certification—Debarment, Suspension, and Other Responsibility Matters. This certification is required by the regulations implementing Executive Order 12549, Debarment and Suspension, 34 CFR part 85, section 85.510, Participants' responsibilities. The regulations were published as part VII of the May 26, 1988, Federal Register (pages 19160-19211).

(1) The applicant certifies to the best of its knowledge and belief, that it and its principals:

(a) Are not presently debarred, suspended, proposed for debarment, declared ineligible, or voluntarily excluded from covered transactions by any Federal department of agency,

(b) Have not within a three-year period preceding this proposal been convicted of or had a civil judgment rendered against them for commission of fraud or a criminal offense in connection with obtaining, attempting to obtain, or performing a public (Federal, State or local) transaction or contract under a public transaction; violation of Federal or State anti-trust statutes or commission of embezzlement, theft, forgery, bribery, falsification or destruction of records, making false statements, or receiving stolen property,

(c) Are not presently indicted for or otherwise criminally or civilly charged by a governmental entity (Federal, State or local) with commission of any of the offenses enumerated in paragraph (1)(b) of this certification, and

(d) Have not within a three-year period preceding this application proposal had one or more public transactions (Federal, State or local) terminated for cause of default;

(2) Where the applicant is unable to certify to any of the statements in this certification, such applicant shall attach an explanation to this application.

Certification—Drug-Free Workplace. This certification is required by the regulations implementing the Drug-Free Workplace Act of 1988, 34 CFR part 85, subpart F. The regulations, published in the January 31, 1989, Federal Register, require certification by grantees, prior to award, that they will maintain a drug-free workplace. The certification set out below is a material representation of fact upon which reliance will be placed when the agency determines to award the grant. False certification or violation of the certification shall be grounds for suspension of payments, suspension or termination of grants, or government-wide suspension or debarment (see 34 CFR part 85, section 85.615 and 85.620). The grantee certifies that it will provide a drug-free workplace by:

(1) Publishing a statement notifying employees that the unlawful manufacture, distribution, dispensing, possession or use of a controlled substance is prohibited in the grantee's workplace and specifying the actions that will be taken against employees for violation of such prohibition;

(2) Establishing a drug-free awareness program to inform employees about—

(a) The dangers of drug abuse in the workplace,

(b) The grantee's policy of maintaining a drug-free workplace,

(c) Any available drug counseling, rehabilitation, and employee assistance programs, and

(d) The penalties that may be imposed upon employees for drug abuse violations occurring in the workplace;

(3) Making it a requirement that each employee to be engaged in the performance of the grant be given a copy of the statement required by paragraph (1);

(4) Notifying the employee in the statement required by paragraph (1) that, as a condition of employment under the grant, the employee will

(a) Abide by the terms of the statement, and

(b) Notify the employer of any criminal drug statute conviction for a violation occurring in the workplace no later than five days after such conviction;

(5) Notifying the Corporation within ten days after receiving notice under subparagraph (4)(b) from an employee or otherwise receiving actual notice of such conviction;

(6) Taking one of the following actions, within 30 days of receiving notice under subparagraph (4)(b) with respect to any employee who is so convicted —

(a) Taking appropriate personnel action against such an employee, up to and including termination; or

(b) Requiring such employee to participate satisfactorily in a drug abuse assistance or rehabilitation program approved for such purposes by a Federal, State, or local health, law enforcement, or other appropriate agency;

(7) Making a good faith effort to continue to maintain a drug-free workplace through implementation of paragraphs (1), (2), (3), (4), (5), and (6).

Certification Instructions

By signing the Certification Signature Page on the previous page, the applicant certifies that it will agree to perform all actions and support all intentions stated in the Certifications.

Signing the Certification Page

1. Inability to Certify. The inability of a person to provide the certification required below will not necessarily result in denial of a grant. The applicant shall submit an explanation of why it cannot provide the certification set out below. The certification or explanation will be considered in connection with the Corporation determination whether to enter into this transaction. However, failure of the applicant to furnish a certification or an explanation shall disqualify such applicant for a grant.

2. Erroneous Certification. The certification in this clause is a material representation of fact upon which reliance was placed when the Corporation determined to enter into this transaction. If it is later determined that the applicant knowingly rendered an erroneous certification, in addition to other remedies available to the Federal Government, the Corporation may terminate this transaction for cause or default.

3. Notice of Error in Certification. The applicant shall provide immediate written notice to the Corporation to whom this proposal is submitted if at any time the applicant learns that its certification was erroneous when submitted or has become erroneous by reason of changes circumstances.

4. Definitions. The terms “covered transaction”, “debarred”, “suspended”, “ineligible”, “lower tier covered transaction,” “participant,” “person,” “primary covered transaction,” “principal,” “proposal,” and “voluntarily excluded,” as used in this clause, have the meanings set out in the Definitions and Coverage sections of the rules implementing Executive Order 12549. An applicant shall be considered a “prospective primary participant in a covered transaction” as defined in the rules implementing Executive Order 12549. You may contact the Corporation for assistance in obtaining a copy of those regulations.

5. Certification Requirement for Subgrant Agreements. The applicant agrees by submitting this proposal that, should the proposed covered transaction be entered into, it shall not knowingly enter into any lower tier covered transaction with a person who is debarred, suspended, declared ineligible, or voluntarily excluded from participation in this covered transaction, unless authorized by the Corporation.

6. Certification Inclusion in Subgrant Agreement. The applicant further agrees by submitting this proposal that it will include the clause titled “Certification Regarding Debarment, Suspension, Ineligibility, and Voluntary Exclusion-Lower Tier Covered Transactions,” provided by the Corporation, without modification, in all lower tier covered transactions and in all solicitations for lower tier covered transactions.

7. Certification of Subgrant Principals. A grantee may rely upon a certification of a prospective participant in a lower-tier covered transaction that it is not debarred, suspended, ineligible, or voluntarily excluded from the covered transaction, unless it knows that the certification is erroneous. A grantee may decide the method and frequency by which it determines the eligibility of its principals. Each grantee may, but is not required to, check the Nonprocurement List.

8. Prudent Person Standard. Nothing contained in the foregoing shall be construed to require establishment of a system of records in order to render in good faith the certification required by this clause. The knowledge and information of a grantee is not required to exceed that which is normally possessed by a prudent person in the ordinary course of business dealings.

9. Non-Certification in Subgrant Agreements. Except for transactions authorized under paragraph 6 of these instructions, if a grantee knowingly enters into a lower-tier covered transaction with a person who is suspended, debarred, ineligible, or voluntarily excluded from participation in this transaction, in addition to other remedies available to the Federal Government, the department or agency may terminate this transaction for cause or default.

Certification—Lobbying Activities

As required by section 1352, title 31 of the U.S. Code, the applicant certifies that:

A. No Federal appropriated funds have been paid or will be paid, by or on behalf of the undersigned, to any person for influencing or attempting to influence an officer or employee of any agency, a Member of Congress, an officer of Congress in connection with the awarding of any Federal contract, the making of any Federal loan, the entering into of any cooperative agreement, or modification of any Federal contract, grant, loan, or cooperative agreement;

B. If any funds other than Federal appropriated funds have been paid or will be paid to any person for influencing or attempting to influence an officer of employee of any agency, a Member of Congress, an officer or employee of Congress, or an employee of a Member of Congress in connection with this Federal contract, grant, loan, or cooperative agreement, the undersigned shall complete and submit Standard Form-LLL, “Disclosure Form to Report Lobbying,” in accordance with its instructions.

C. The undersigned shall require that the language of this certification be included in the award documents for all subcontracts at all tiers (including subcontracts, subgrants, and contracts under grants, loans and cooperative agreements), and that all subrecipients shall certify and disclose accordingly.

Certification—Signature

Before You Start. Before completing certification, please read Certification Instructions.

Note: This form must be signed and included in the application.

Signature. By signing this Certification page, the applicant certifies that it will agree to perform all actions and support all intentions stated in the Certifications set forth above. The three Certifications are:

• Certification: Debarment, Suspension, and Other Responsibility Matters

• Certification: Drug-Free Workplace

• Certification: Lobbying Activities

Applicant Name

Project Name

Name and Title of Authorized Representative

Signature

Date

BILLING CODE 4910-62-P

[FR Doc. 03-5138 Filed 3-4-03; 8:45 am]

BILLING CODE 4910-62-C